DEPARTMENT OF THE TREASURY

Office of Foreign Assets Control

Sanctions Actions Pursuant To The Cuban Assets Control Regulations

AGENCY: Office of Foreign Assets Control, Treasury.

ACTION: Notice.

SUMMARY: The Department of the Treasury's Office of Foreign Assets Control (OFAC) is publishing the names of 10 individuals and 14 entities whose names have been removed from the list of Specially Designated Nationals and Blocked Persons (SDN List) pursuant to the Cuban Assets Control Regulations.

DATES: OFAC's actions described in this notice were effective on January 6, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On January 6, 2017, OFAC removed from the SDN List the persons listed below, whose property and interests in property were blocked pursuant to the Cuban Assets Control Regulations.

Individuals

1. ANGELINI, Alejandro Abood, Panama (individual) [CUBA].

2. DOMINGUEZ, Carlos, Vinales Tours, Oaxaca 80, Roma, Mexico, D.F., Mexico (individual) [CUBA].

3. DE FRANCE, Naomi A., Cubanatur, Baja California 255, Edificio B., Oficina 103, Condesa, Mexico, D.F. 06500, Mexico (individual) [CUBA].

4. EGGLETON, Wilfred, Baja California 255, Edificio B., Oficina 103, Condesa, Mexico, D.F. 06500, Mexico; Director General, Cubanatur (individual) [CUBA].

5. GARCIA, Daniel, Avenida Insurgentes Sur No. 421, Bloque B Despacho 404, Mexico, D.F. 06100, Mexico; Manager, Promociones Artisticas (PROARTE) (individual) [CUBA].

6. GONZALEZ, Carlos Alfonso (a.k.a. ALFONSO, Carlos), Panama (individual) [CUBA].

7. ORTIZ, Guadalupe, Cubanatur, Baja California 255, Edificio B, Oficina 103, Condesa, Mexico, D.F. 06500, Mexico (individual) [CUBA].

8. PONCE DE LEON GOMEZ, Lazaro, Medira, Mexico (individual) [CUBA].

9. SANTO, Anabel, Avenida Insurgentes Sur No. 421, Bloque B Despacho 404, Mexico, D.F. 06100, Mexico (individual) [CUBA].

10. YAM, Melvia Isabel Gallegos, Merida, Mexico (individual) [CUBA].

Entities

1. CARIBSUGAR INTERNATIONAL TRADERS, S.A., 125-133 Camden High Street, London NW1 7JR, United Kingdom [CUBA].

2. CUREF METAL PROCESSING BV, Boezembolcht 23, Rotterdam, Netherlands [CUBA].

3. MANZPER CORP., Panama [CUBA].

4. NIPPON-CARIBBEAN CO., LTD., Chuo-Ku, Akasaki-Chuo 1-1 Akasaki Bldg., Tokyo, Japan [CUBA].

5. BELMEX IMPORT EXPORT CO., LTD., 24 Corner Regent and Kings Streets, Belize City, Belize [CUBA].

6. COLONY TRADING, S.A., Panama [CUBA].

7. CORPORACION ARGENTINA DE INGENIERIA Y ARQUITECTURA, S.A. (a.k.a. COPIA, S.A.), San Martin 323, 4th Floor, Buenos Aires, Argentina [CUBA].

8. EXPORTADORA DEL CARIBE, Medira, Mexico [CUBA].

9. KYOEI INTERNATIONAL COMPANY, LIMITED, Tokyo, Japan [CUBA].

10. LEVERYE, S.A., Corrientes 1386, 5th Floor, Buenos Aires, Argentina [CUBA].

11. MARISCO DE FARALLON, S.A. (a.k.a. MARISCOS DE FARALLON, S.A.), Panama [CUBA].

12. PANOAMERICANA, Panama [CUBA].

13. PROMOCIONES ARTISTICAS (a.k.a. PROARTE), Avenida Insurgentes Sur No. 421, Bloque B Despacho 404, C.P. 06100, Mexico, D.F., Mexico [CUBA].

14. SHIPLEY SHIPPING CORP., Panama [CUBA].

Dated: January 6, 2017.
Gregory T. Gatjanis,
Associate Director, Office of Global Targeting, Office of Foreign Assets Control.

[FR Doc. 2017-00647 Filed 1-12-17; 8:45 am]

BILLING CODE 4810-AL-P